ENVIRONMENTAL PROTECTION AGENCY

[ER-FRL-6678-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060149, ERP No. D-AFS-L65509-WA, School Fire Salvage Recovery Project, Salvage Harvest Fire-Killed (dead) and Fire-Damaged (dying) Trees, Implementation, Pomeroy Ranger District, Umatilla National Forest, Columbia and Garfield Counties, WA.

Summary: EPA expressed environmental concerns about the potential for increased sediment delivery to streams, the potential for mass wasting from logging on steep slopes and the uncertainty associated with using the WEPP model to predict sediment loading to streams. Rating EC2.

EIS No. 20060150, ERP No. D-BLM-K65306-CA, Alturas Field Office Project, Resource Management Plan, Implementation, Lassen, Modoc, Shasta, and Siskiyou Counties, CA.

Summary: EPA expressed environmental concerns about water quality/riparian impacts from livestock and roads, and the sustain ability of rangeland management under the preferred alternative. EPA recommended reductions in grazing in areas not meeting range health standards, and additional acreage designated for special management. Rating EC2.

EIS No. 20060237, ERP No. D-AFS-L65514-AK, Traitors Cove Timber Sale Project, Timber Harvest and Road Construction, Implementation, Revillagigedo Island, Ketchikan-Misty Fiords Ranger District, Tongas National Forest, AK.

Summary: EPA expressed concerns about cumulative impacts to the watershed from the proposed action, as well as, past actions. The Final EIS should include modifications or mitigation for these impacts. Rating EC1.

EIS No. 20060241, ERP No. D-AFS-L65516-WA, Olympic National Forest, Beyond Prevention: Site-Specific Invasive Plant Treatment Project, Implementation, Clallam, Grays Harbor, Jefferson and Mason Counties, WA.

Summary: EPA expressed environmental concerns about aquatic invasive plant infestations and how these would be treated to prevent deterioration of water quality. Rating EC1.

EIS No. 20060245, ERP No. D-FHW-E40807-SC, Interstate 73 Southern Project, Construction from I-95 to the Myrtle Beach Region, Funding, NPDES Permit, U.S. Coast Guard Permit, U.S. Army COE Section 404 Permit, Dillon, Horry and Marion Counties, SC.

Summary: EPA expressed environmental concerns about potential impacts to wetlands and the Little Pee Dee River Heritage Preserve as well as noise impacts and environmental justice issues. Potential indirect impacts to wildlife habitat acreage is also a concern. Rating EC1.

EIS No. 20060256, ERP No. D-AFS-K65312-CA, Pilgrim Vegetation Management Project, Proposes Commercial Thinning/Sanitation, Shasta-Trinity National Forest, Siskiyou County, CA.

Summary: EPA expressed concerns about human and non-target species exposure to Borax and the effects of the project on sensitive species. EPA recommended the project design include road improvements to address identified sedimentation and erosion concerns. Rating EC2.

EIS No. 20060257, ERP No. D-AFS-L61232-AK, Helicopter Access to Conduct Forest Inventory and Analysis (FIA) in Wilderness, Implementation, Tongas and Chugach National Forest, AK.

Summary: EPA does not object to the proposed project. Rating LO.

Final EISs

EIS No. 20060250, ERP No. F-FHW-E40798-NC, Greensboro-High Point Road (NC-1486-NC-4121) Improvements from U.S. 311 (I-74) to Hilltop Road (NC-1424), Funding, Cities of Greensboro and High Point, Town of Jamestown, Guilford County, NC.

Summary: EPA continues to have environmental concerns about the protection of surface water quality within the Randleman Reservoir watershed. EPA also has concerns regarding construction-related mobile source air toxic as well as impacts to migratory birds.

EIS No. 20060289, ERP No. F-AFS-L65509-WA, School Fire Salvage Recovery Project, Salvage Harvest Fire-Killed (dead) and Fire-Damaged (dying) Trees, Implementation, Pomeroy Ranger District, Umatilla National Forest, Columbia and Garfield Counties, WA.

Summary: EPA continues to express concerns about increased sediment in streams, mass wasting and uncertainties associated with using the WEPP model to predict sediment loading.

EIS No. 20060301, ERP No. F-NPS-L65491-ID, Minidoka Internment National Monument (Former Minidoka Relocation Center), General Management Plan, Implementation, Jerome County, ID.

Summary: No formal comment letter was sent to the preparing agency.

Dated: August 15, 2006.
Ken Mittelholtz,
Environmental Protection Specialist, Office of Federal Activities.

[FR Doc. E6-13663 Filed 8-17-06; 8:45 am]

BILLING CODE 6560-50-P